DEPARTMENT OF HOMELAND SECURITY

Federal Emergency Management Agency

44 CFR Part 67

Final Flood Elevation Determinations

AGENCY: Federal Emergency Management Agency (FEMA), Emergency Preparedness and Response Directorate, Department of Homeland Security.

ACTION: Final rule.

SUMMARY: Base (1% annual chance) Flood Elevations (BFEs) and modified BFEs are made final for the communities listed below. The BFEs and modified BFEs are the basis for the floodplain management measures that each community is required either to adopt or to show evidence of being already in effect in order to qualify or remain qualified for participation in the National Flood Insurance Program (NFIP).

EFFECTIVE DATES: The date of issuance of the Flood Insurance Rate Map (FIRM) showing BFEs and modified BFEs for each community. This date may be obtained by contacting the office where the maps are available for inspection as indicated on the table below.

ADDRESSES: The final BFEs for each community are available for inspection at the office of the Chief Executive Officer of each community. The respective addresses are listed in the table below.

FOR FURTHER INFORMATION CONTACT: Doug Bellomo, P.E., Hazard Identification Section, Emergency Preparedness and Response Directorate, FEMA, 500 C Street SW., Washington, DC 20472, (202) 646-2903.

SUPPLEMENTARY INFORMATION: FEMA makes the final determinations listed below for the modified BFEs for each community listed. These modified elevations have been published in newspapers of local circulation and ninety (90) days have elapsed since that publication. The Mitigation Division Director of the Emergency Preparedness and Response Directorate, has resolved any appeals resulting from this notification.

This final rule is issued in accordance with Section 110 of the Flood Disaster Protection Act of 1973, 42 U.S.C. 4104, and 44 CFR part 67.

The Agency has developed criteria for floodplain management in floodprone areas in accordance with 44 CFR part 60.

Interested lessees and owners of real property are encouraged to review the proof Flood Insurance Study and FIRM available at the address cited below for each community.

The BFEs and modified BFEs are made final in the communities listed below. Elevations at selected locations in each community are shown.

National Environmental Policy Act. This rule is categorically excluded from the requirements of 44 CFR part 10, Environmental Consideration. No environmental impact assessment has been prepared.

Regulatory Flexibility Act. The Mitigation Division Director of the Emergency Preparedness and Response Directorate certifies that this rule is exempt from the requirements of the Regulatory Flexibility Act because final or modified BFEs are required by the Flood Disaster Protection Act of 1973, 42 U.S.C. 4104, and are required to establish and maintain community eligibility in the NFIP. No regulatory flexibility analysis has been prepared.

Regulatory Classification. This final rule is not a significant regulatory action under the criteria of Section 3(f) of Executive Order 12866 of September 30, 1993, Regulatory Planning and Review, 58 FR 51735.

Executive Order 12612, Federalism. This rule involves no policies that have federalism implications under Executive Order 12612, Federalism, dated October 26, 1987.

Executive Order 12778, Civil Justice Reform. This rule meets the applicable standards of Section 2(b)(2) of Executive Order 12778.

List of Subjects in 44 CFR Part 67

Administrative practice and procedure, flood insurance, reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Source of flooding and location | #Depth in feet above ground. *Elevation in feet (NGVD) •Elevation in feet (NAVD)
CALIFORNIA
Santa Barbara County (FEMA Docket No. D-7620)
Arroyo Burro Creek:
Approximately 1,320 feet downstream of Cliff Drive | *6
Approximately 1,550 feet upstream of Foothill Road | *366
Santa Barbara County (Unincorporated Areas), City of Santa Barbara
Arroyo Burro Creek Overland Flow at Casiano Drive:
At the intersection of Casiano Drive and Portofino Way | *126
At downstream side of U.S. Highway 101 | *162
City of Santa Barbara
Arroyo Burro Creek Overland Flow at Palermo Way:
At the intersection of Palermo Way Drive and Barcelona Way | *112
At downstream side of U.S. Highway 101 | *160
City of Santa Barbara
Arroyo Paredon:
At confluence with Pacific Ocean | *8
Approximately 2,750 feet upstream of Foothill Road | *219
City of Santa Barbara
Arroyo Paredon Tributary:
At confluence with Arroyo Paredon | *33
Approximately 130 feet upstream of Foothill Road | *82
Santa Barbara County (Unincorporated Areas)
Devereaux Creek:
At confluence with Pacific Ocean | *7
Approximately 50 feet upstream of Southern Pacific Railroad | *97
Santa Barbara County (Unincorporated Areas), City of Goleta
Devereaux Creek Tributary 1:
At confluence with Devereaux Creek | *23
Approximately 50 feet upstream of Southern Pacific Railroad | *95
City of Goleta
Devereaux Creek Tributary 2:
At confluence with Devereaux Creek | *15
Approximately 150 feet upstream of Southern Pacific Railroad | *60
Santa Barbara County (Unincorporated Areas), City of Goleta
Devereaux Creek Tributary 3:
At confluence with Devereaux Creek | *14
Approximately 2,050 feet upstream of confluence with Devereaux Creek | *16
Santa Barbara County (Unincorporated Areas), City of Goleta
East Branch Toro Creek:
At confluence with Toro Creek | *249
Approximately 60 feet upstream of State Highway 192 | *498
Santa Barbara County (Unincorporated Areas)
Fremont Creek:
At confluence with San Jose Creek (East Valley Road) | *85
Approximately 910 feet upstream of Patterson Avenue | *153
Santa Barbara County (Unincorporated Areas)
Garrapata Creek:
At confluence with Pacific Ocean | *8
Approximately 430 feet upstream of Toro Canyon Road (Third Crossing) | *456
Santa Barbara County (Unincorporated Areas)
Las Positas Creek:
At confluence with Arroyo Burro | *58
Approximately 300 feet upstream of Modoc Road | *120
Santa Barbara County (Unincorporated Areas), City of Santa Barbara
Northridge Creek:
At confluence with Arroyo Burro | *295
Approximately 2,425 feet upstream of Foothill Road | *408
City of Santa Barbara
San Jose Creek:
Approximately 50 feet upstream of Calle Real | *55
Approximately 810 feet upstream of Patterson Avenue | *107
Santa Barbara County (Unincorporated Areas), City of Goleta
San Roque Creek:
At confluence with Arroyo Burro | *174
Approximately 7,800 feet upstream of Ontare Road | *484
City of Santa Barbara
Toro Creek:
At confluence with Pacific Ocean | *10
At State Highway 192 (East Valley Road) | *494
Santa Barbara County (Unincorporated Areas)
City of Goleta
Maps available for inspection at the Goleta City Hall, 130 Cremona Drive, Suite B, Goleta, California.
City of Santa Barbara
Maps available for inspection at the Santa Barbara City Administrator's Office, 735 Anacapa Street, Santa Barbara, California.
Santa Barbara County (Unincorporated Areas)
Maps available for inspection at the Santa Barbara County Department of Public Works, Water Resources Division, Flood Control and Water Conservation District, 123 East Anapamu Street, Santa Barbara, California.

(Catalog of Federal Domestic Assistance No. 83.100, “Flood Insurance.”)

Dated: August 23, 2005.
David I. Maurstad,
Acting Director, Mitigation Division, Emergency Preparedness and Response Directorate.

[FR Doc. 05-17624 Filed 9-2-05; 8:45 am]

BILLING CODE 9110-12-P